Proclamation 10661 of October 31, 2023

National Adoption Month, 2023

By the President of the United States of America

A Proclamation

Children are the kite strings that hold our Nation's ambitions aloft, and every one of them deserves to grow up in a safe and loving home. This National Adoption Month, we celebrate all the families made whole through adoption and recommit to ensuring that every child can build a life of happiness and well-being.

Today, more than a hundred thousand children are awaiting adoption in our Nation's foster care system, hoping for the love, connection, and a lasting foundation that a permanent family can provide. To help more families cover the cost of adoption, I have urged the Congress to make the adoption tax credit fully refundable so that every adoptive family benefit, regardless of income, and can focus on building supportive lives together. I have proposed making legal guardians eligible as well so that loving grandparents, aunts, uncles, and others can care for children and keep extended families together. I have also expanded the Military Parental Leave Program, allowing service members to spend more time with their families after a child is born, adopted, or placed with them through long-term foster care. At the same time, my Administration is working to remove barriers that make it harder for LGBTQI+ families to adopt, including by providing State child welfare agencies with training and funds to better support and place LGBTQI+ youth in safe and compassionate environments.

Still, thousands of young people unfortunately will not be adopted before they age out of foster care. To help ease that transition, my latest budget called for $9 billion to provide housing vouchers to all 20,000 adolescents exiting foster care annually; and I sought another $1 billion to support job placement, health care, access to higher education, and other programs. My Administration is also working closely with States to help foster youth stay in school, train for jobs, pay their bills, and begin promising adult lives.

During National Adoption Month, we recognize the bonds of love shared by adoptive families across America. We celebrate the millions of adoptive and kinship families who have opened their hearts to provide safe and caring homes. We thank the foster families and dedicated professionals who help so much along the way. We stand with foster youth and adoptees of all ages and want you to know that you are never alone. This month especially, we encourage anyone who is considering adoption to take that brave and loving step forward, growing their families and adding profound meaning to their lives.

NOW, THEREFORE, I, JOSEPH R. BIDEN JR., President of the United States of America, by virtue of the authority vested in me by the Constitution and the laws of the United States, do hereby proclaim November 2023 as National Adoption Month. I encourage all Americans to honor this month by helping the children and youth in your communities secure their forever homes and find the love and connection that they need to thrive.

IN WITNESS WHEREOF, I have hereunto set my hand this thirty-first day of October, in the year of our Lord two thousand twenty-three, and of the Independence of the United States of America the two hundred and forty-eighth.

[FR Doc. 2023-24483

Filed 11-2-23; 8:45 am]

Billing code 3395-F4-P